DEPARTMENT OF THE INTERIOR

Bureau of Land Management

[UT-920-06-1320-EL, UTU-84402]

Notice of Invitation to Participate In Coal Exploration License, Utah

AGENCY: Bureau of Land Management, Interior.

ACTION: Notice of Invitation to Participate in Coal Exploration License.

SUMMARY: Pursuant to Section 2(b) of the Mineral Leasing Act of 1920, as amended by Section 4 of the Federal Coal Leasing Amendments Act of 1976, 90 Stat. 1083, 30 U.S.C. 201(b), and to the regulations adopted as 43 CFR part 3410, all interested qualified parties, as provided in 43 CFR 3472.1, are hereby invited to participate with PacifiCorp on a pro rata cost sharing basis in its program for the exploration of coal deposits owned by the United States of America immediately west of the Deer Creek Mine state lease (ML-48258) in the Mill Fork West Area, in the following-described lands of Emery County, Utah:

T. 16 S., R. 6 E., SLM, Utah

Sec. 15, E½SWSE;

Sec. 22, Lot 3.

Containing 53.57 acres.

All of the coal in the above-described land consists of unleased Federal coal within the Uinta-Southwestern Utah Known Coal Production Area. This coal exploration license has been issued by the Bureau of Land Management. This exploration program will obtain coal data to supplement data from adjacent coal development. The exploration program is described in and is being conducted pursuant to an exploration plan approved by the Bureau of Land Management (BLM). The plan may be modified to accommodate the legitimate exploration needs of persons seeking to participate.

ADDRESSES: Copies of the exploration plan and license are available for review during normal business hours (serialized under the number of UTU 84402) in the public room of the BLM State Office, 440 West 200 South, Suite 500, Salt Lake City, Utah. The written notice to participate in the exploration program should be sent to both the BLM, Utah State Office, P.O. Box 45155, Salt Lake City, Utah 84145, and to Scott Child, Manager Lands & Regulatory Affairs, PacificCorp, One Utah Center, 201 South Main, Suite 2100, Salt Lake City, Utah 84111.

DATES: Any person seeking to participate in this exploration program must send written notice to both the BLM and PacifiCorp, as provided in the ADDRESSES section above, no later than April 13, 2006.

SUPPLEMENTARY INFORMATION: This notice of invitation to participate will be published in the Emery County Progress, once each week for two consecutive weeks beginning the second week of March, 2006 and in the Federal Register.

The authority for this notice is 43 CFR 3410.2-1(c)(1).

Dated: March 2, 2006.
Kent Hoffman,
Deputy State Director, Lands and Minerals.

[FR Doc. 06-2600 Filed 3-14-06; 2:40 pm]

BILLING CODE 4310-DK-P